DEPARTMENT OF STATE

[Public Notice 8483]

Bureau of Oceans and International Environmental Scientific Affairs; Climate Action Report

AGENCY: Department of State.

ACTION: Notice; request for public comments.

SUMMARY: The purpose of this announcement is to notify interested members of the public of the opportunity to submit comments to the draft 2014 Climate Action Report (CAR) on U.S. climate change actions. This draft CAR consists of two documents, the National Communication and the Biennial Report, that respond to reporting requirements under the UN Framework Convention on Climate Change (UNFCCC). The document contains the sixth National Communication, which is provided in accordance with Articles 4.2 and 12 of the UNFCCC and accompanying decisions. The draft CAR also includes the Biennial Report, which summarizes major actions taken to address climate change, covering the period up to 2020, and contains additional reporting information as specified in decisions 1/CP.16, 2/CP.17 (Annex I), and 19/CP.18. The United States submitted the first U.S. CAR to the UNFCCC Secretariat in 1994, and subsequent reports in 1997, 2002, 2006, and 2010.

These documents set out major actions the U.S. government is taking at the federal level, highlight examples of state and local actions, and outline U.S. efforts to assist other countries in addressing climate change. Each document meets specific UN reporting requirements, resulting in overlap between the documents. This report reflects the U.S. Government commitment to the UNFCCC to communicate U.S. actions and policies addressing climate change transparently.

See SUPPLEMENTARY INFORMATION for instructions on accessing the electronic version of the report, file format requirements for submitting comments, and other information about electronic filing.

DATES: The agency must receive comments on or before noon, October 24, 2013.

ADDRESSES: Submit comments to CAR6@state.gov using the spreadsheet available in the “Supporting Documents” section at the U.S. Government Regulations.Gov Web site at http://www.regulations.gov/#!home and search on Docket number DOS-2013-0018.

You may also submit comments using the “Comment Now!” button at the U.S. Government Regulations.Gov Web site at http://www.regulations.gov/#!home and search on Docket number DOS-2013-0018. Please use the spreadsheet available in the “Supporting Documents” section if practicable.

Additionally, comments may be sent via postal mail to: CAR6 Comments, Department of State, Office of Global Change, Harry S. Truman Building, Room 2480, 2201 C Street NW., Washington, DC 20520 or via fax to: (202) 647-0191.

Comments will be due within 28 days of publication date.

FOR FURTHER INFORMATION CONTACT: Andrew Rakestraw, Office of Global Change, U.S. Department of State at (202) 647-3489.

SUPPLEMENTARY INFORMATION: The draft Sixth CAR provides a detailed report on U.S. actions to address climate change. This report contains descriptions of specific measured and verified actions, outlines of broad policy initiatives, and summaries of activities conducted by the United States since the Fifth CAR, principally at the federal level. It also explains U.S. Government efforts to increase scientific understanding of climate change, and provide foreign assistance to help other nations mitigate and adapt to the effects of climate change.

Table of Contents of the Draft Sixth U.S. CAR

1. CAR Foreword

2. Biennial Report

3. Executive Summary

4. National Circumstances

5. Greenhouse Gas Inventory

6. Policies & Measures

7. Projected Greenhouse Gas Emissions

8. Vulnerability Assessment, Climate Change Impacts, and Adaptation Measures

9. Financial Resources and Transfer of Technology

10. Research and Systematic Observation

11. Education, Training, and Outreach

Two additional items are posted that are not formally part of the CAR: (1) The non-CO2 projections methodology document for chapter 5; and (2) the “with additional measures” methodologies for the Biennial Report.

Public Input Process

This Federal Register notice solicits comments on the draft chapters listed above. The individual chapters are posted on the internet and may be downloaded from the following Web site: http://www.state.gov/e/oes/climate/ccreport2014/index.htm

Dated: September 19, 2013.
Trigg Talley,
Director, Office of Global Change, Department of State.

[FR Doc. 2013-23475 Filed 9-25-13; 8:45 am]

BILLING CODE 4710-09-P